DEPARTMENT OF ENERGY

[OE Docket Nos. EA-338 and EA-339]

Applications To Export Electric Energy; Shell Energy North America (US), L.P.

AGENCY: Office of Electricity Delivery and Energy Reliability, DOE.

ACTION: Notice of application.

SUMMARY: Shell Energy North America (US), L.P. (SENA) has applied for authority to transmit electric energy from the United States to Mexico and Canada pursuant to section 202(e) of the Federal Power Act.

DATES: Comments, protests, or requests to intervene must be submitted on or before May 1, 2008.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C.824a(e)).

On March 14, 2008, DOE received two separate applications from SENA for authority to transmit electric energy from the United States to Mexico and Canada as a power marketer for a term of five years. SENA does not own any electric transmission facilities nor does it hold a franchised service area. The electric energy which SENA proposes to export to Mexico and Canada would be surplus energy purchased from electric utilities, Federal power marketing agencies, and other entities within the United States.

In OE Docket No. EA-338, SENA proposes to transmit electric energy to Mexico and arrange for the delivery of those exports over the international transmission facilities presently owned by AEP Texas Central Company, Baja California Power, Inc., Central Power & Light Company, Comision Federal de Electricdad, the national electric utility of Mexico, El Paso Electric Company, San Diego Gas & Electric Company, and Sharyland Utilities, Inc.

In OE Docket No. EA-339, SENA proposes to export electric energy to Canada and to arrange for the delivery of those exports over the international transmission facilities presently owned by Basin Electric Power Cooperative, Bonneville Power Administration, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company, Vermont Electric Power Company, and Vermont Electric Transmission Company.

The construction, operation, maintenance, and connection of each of the international transmission facilities to be utilized by SENA was previously authorized by a Presidential permit issued pursuant to Executive Order 10485, as amended.

DOE expects exporters of electric energy to obtain the necessary authorization from DOE to export electricity and to abide by the terms and conditions established for such export in the Orders issued by DOE, including any term limit for the authorization and the requirement to create and preserve full and complete records and file quarterly reports. Failure to first obtain an Order authorizing the export of electricity, or continuing to export after the expiration of such an Order, may result in a denial of authorization to export in the future and subject the exporter to sanctions and penalties under the FPA. DOE also expects transmitting utilities owning border facilities and entities charged with the operational control of those border facilities, such as Independent System Operators or Regional Transmisssion Organizations, to verify that companies seeking to schedule an electricity export have the requisite authority from DOE to export such power.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each comment, petition, and protest should be filed with DOE on or before the dates listed above.

All filings in these proceedings should be clearly marked with Docket No. EA-338 for exports to Mexico or Docket No. EA-339 for exports to Canada. Additional copies are to be filed directly with Robert Reilley, Vice President, Regulatory Affairs, Shell Energy North America (US), L.P., 909 Fannin, Plaza Level One, Houston, TX 77010 and Ms. Jane Barnett, Regulatory Analyst, at the same address.

A final decision will be made on this application after the environmental impacts have been evaluated pursuant to the National Environmental Policy Act of 1969, and a determination is made by DOE that the proposed action will not adversely impact on the reliability of the U.S. electric power supply system.

Copies of these applications will be made available, upon request, for public inspection and copying at the address provided above, by accessing the program Web site at http://oe.energy.gov/permits.htm, or by emailing Odessa Hopkins at odessa.hopkins@hq.doe.gov.

Issued in Washington, DC, on March 27, 2008.
Anthony J. Como,
Director, Permitting and Siting, Office of Electricity Delivery and Energy Reliability.

[FR Doc. E8-6664 Filed 3-31-08; 8:45 am]

BILLING CODE 6450-01-P